FEDERAL RESERVE SYSTEM

Agency Information Collection Activities: Announcement of Board Approval Under Delegated Authority and Submission to OMB

Background

Notice is hereby given of the final approval of proposed information collection(s) by the Board of Governors of the Federal Reserve System (Board) under OMB delegated authority, as per 5 CFR 1320.16 (OMB Regulations on Controlling Paperwork Burdens on the Public). Board-approved collections of information are incorporated into the official OMB inventory of currently approved collections of information. Copies of the OMB 83-Is and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer—Mary M. West—Division of Research and Statistics, Board of Governors of the Federal Reserve System, Washington, DC 20551 (202-452-3829); OMB Desk Officer—Alexander T. Hunt—Office of Information and Regulatory Affairs, Office of Management and Budget, New Executive Office Building, Room 3208, Washington, DC 20503 (202-395-7860).

Final Approval Under OMB Delegated Authority of the Extension for Three Years, Without Revision, of the Following Reports

1. Report title: Report of Transaction Accounts, Other Deposits, and Vault Cash; Report of Certain Eurocurrency Transactions.

Agency form number: FR 2900; FR 2950/2951.

OMB control number: 7100-0087.

Frequency: Weekly, quarterly.

Reporters: Depository institutions.

Annual reporting hours: 984,138 hours.

Estimated average hours per response: FR 2900: 3.50; FR 2950/2951: 1.00.

Number of respondents: FR 2900: 4,813 weekly, and 5,880 quarterly; FR 2950/2951: 497 weekly, and 2 quarterly.

Small businesses are affected.

General description of report: These information collections are mandatory: FR 2900 and FR 2950 (12 U.S.C. 248(a), 461, 603, and 615) and FR 2951 (12 U.S.C. 248(a), 461, and 347d) and are given confidential treatment (5 U.S.C. 552(b)(4)).

Abstract: The FR 2900 report collects information on deposits and related items from depository institutions that have transaction accounts or nonpersonal time deposits and that are not fully exempt from reserve requirements (“nonexempt institutions”). These institutions file weekly if their total deposits are greater than or equal to the nonexempt deposit cutoff and quarterly if their total deposits are less than the nonexempt deposit cutoff. The FR 2950/2951 collects information on Eurocurrency transactions from depository institutions that obtain funds from foreign (non-U.S.) sources or that maintain foreign branches. The Federal Reserve raised the deposit cutoff used to determine weekly versus quarterly FR 2900 reporting (the “nonexempt cutoff”) above its indexed level of $84.5 million to $95 million. These mandatory reports are used by the Federal Reserve for administering Regulation D (Reserve Requirements of Depository Institutions) and for constructing, analyzing, and controlling the monetary and reserve aggregates.

2. Report title: Annual Report of Total Deposits and Reservable Liabilities.

Agency form number: FR 2910a.

OMB control number: 7100-0175.

Frequency: Annual.

Reporters: Depository institutions.

Annual reporting hours: 2,734 hours.

Estimated average hours per response: 30 minutes.

Number of respondents: 5,468.

Small businesses are affected.

General description of report: This information collection is mandatory (12 U.S.C. 248(a) and 461) and is given confidential treatment (5 U.S.C. 552(b)(4)).

Abstract: This report collects two items of information from depository institutions (other than U.S. branches and agencies of foreign banks and Edge and agreement corporations) that are fully exempt from reserve requirements under the Garn-St Germaine Depository Institutions Act of 1982. This mandatory report is used by the Federal Reserve for administering Regulation D (Reserve Requirements of Depository Institutions) and for constructing, analyzing, and controlling the monetary and reserve aggregates.

3. Report title: Allocation of Low Reserve Tranche and Reservable Liabilities Exemption.

Agency form number: FR 2930/2930a.

OMB control number: 7100-0088.

Frequency: Annually, and on occasion.

Reporters: Depository institutions.

Annual reporting hours: 64 hours.

Estimated average hours per response: 15 minutes.

Number of respondents: 255.

Small businesses are affected.

General description of report: This information collection is mandatory: FR 2930 (12 U.S.C. 248(a), 461, 603, and 615) and FR 2930a (12 U.S.C. 248(a) and 461). It is also given confidential treatment (5 U.S.C. 552(b)(4)).

Abstract: The FR 2930 and the FR 2930a collect information on the allocation of the low reserve tranche and reservable liabilities exemption for depository institutions having offices (or groups of offices) that submit separate FR 2900 deposits reports. The data collected on these reports are needed for the calculation of required reserves.

4. Report title: Report of Foreign (Non-U.S.) Currency Deposits.

Agency form number: FR 2915.

OMB control number: 7100-0237.

Frequency: Quarterly.

Reporters: Depository institutions.

Annual reporting hours: 366 hours.

Estimated average hours per response: 30 minutes.

Number of respondents: 183.

Small businesses are affected.

General description of report: This information collection is mandatory (12 U.S.C. 248(a)(2) and 347d) and is given confidential treatment (5 U.S.C. 552(b)(4)).

Abstract: The FR 2915 collects weekly averages of the amounts outstanding for foreign (non-U.S.) currency deposits held at U.S. offices of depository institutions, converted to U.S. dollars and included on the FR 2900 (OMB No. 7100-0087), the principal deposits report that is used for the calculation of required reserves and for the construction of the monetary aggregates. Foreign currency deposits are subject to reserve requirements and, therefore, are included in the FR 2900. However, foreign currency deposits are not included in the monetary aggregates. The FR 2915 data are used to back foreign currency deposits out of the FR 2900 data for construction and interpretation of the monetary aggregates. The FR 2915 data are also used to monitor the volume of foreign currency deposits.

Final Approval Under OMB Delegated Authority of the Extension for Three Years, With Revision, of the Following Report

1. Report title: Daily Advance Report of Deposits.

Agency form number: FR 2000.

OMB control number: 7100-0087.

Frequency: Daily.

Reporters: Depository institutions.

Annual reporting hours: 24,960 hours.

Estimated average hours per response: 36 minutes.

Number of respondents: 160.

Small businesses are affected.

General description of report: This information collection is mandatory (12 U.S.C. 248(a) and 461) and is given confidential treatment (5 U.S.C. 552(b)(4)).

Abstract: This advance report is commonly referred to as the Markstat D. The Markstat D report collects selected deposit and vault cash data for the most recent reporting week from a sample of large commercial banks and thrifts before such data become available for the universe of all FR 2900 weekly reporters. At present, ten data items (a subset of those on the FR 2900) are collected on the report. The advance report is used in the construction of preliminary estimates of the monetary aggregates for the week just ending.

Current actions: The Federal Reserve dropped three items from the FR 2000 and reduced the authorized panel size from 186 to 160 institutions. The elimination of the three reporting items and the reduction of the authorized panel size reduces the reporting burden by 15,662 hours.

Discontinuance of the Following Report Under OMB Delegated Authority

1. Report title: Quarterly Report of Selected Deposits, Vault Cash, and Reserve Liabilities.

Agency form number: FR 2910q.

OMB control number: 7100-0175.

Frequency: Quarterly.

Reporters: Depository institutions.

Annual reporting hours: 3,936 hours.

Estimated average hours per response: 2 hours.

Number of respondents: 492.

Small businesses are affected.

General description of report: This information collection is mandatory (12 U.S.C. 248(a) and 461) and is given confidential treatment (5 U.S.C. 552(b)(4)).

Abstract: This report collected information from depository institutions (other than U.S. branches and agencies of foreign banks and Edge and agreement corporations) that are fully exempt from reserve requirements under the Garn-St Germaine Depository Institutions Act of 1982. This report was used by the Federal Reserve for administering Regulation D (Reserve Requirements of Depository Institutions) and for constructing, analyzing, and controlling the monetary and reserve aggregates. The Federal Reserve eliminated the exempt deposit cutoff and discontinued this report associated with that cutoff. The Federal Reserve believes that, for exempt institutions, the quarterly reports of condition are adequate for quarterly benchmarking of the monetary aggregates. The Federal Reserve also believes that by shifting the current FR 2910q reporters to the annual, two-item FR 2910a, the Board will be able to adequately monitor compliance with Regulation D. The shift in reporting frequency of the almost 500 FR 2910q respondents to the FR 2910a would reduce reporting burden by 3,690 hours.

Board of Governors of the Federal Reserve System, July 26, 2000.
Jennifer J. Johnson,
Secretary of the Board.

[FR Doc. 00-19314 Filed 7-31-00; 8:45 am]

BILLING CODE 6210-01-P